NATIONAL COMMUNICATIONS SYSTEM

National Security Telecommunications Advisory Committee

AGENCY: National Communications System (NCS).

ACTION: Notice of meeting.

SUMMARY: A meeting of the President's National Security Telecommunications Advisory Committee will be on Thursday, May 1, 2003, from 10 a.m. to 3 p.m. The meeting will be closed to the public to allow for oral discussion of information voluntarily submitted to the Federal government in expectation of protection from disclosure as provided in the provisions of the Critical Infrstructure Information Act of 2002. This is necessary to protect information regarding vulnerabilities resulting from changing technologies and dependence upon privately oeprated infrastructures.

FOR FURTHER INFORMATION CONTACT: Telephone Ms. Marilyn Witcher, (703) 607-6214, or write the Manager, National Communications System, 701 South Court House Road, Arlington, Virginia 22204-2198.

Peter Fonash,
Federal Register Liaison Officer, National Communications System.

[FR Doc. 03-6773 Filed 3-20-03; 8:45 am]

BILLING CODE 5001-08-M